DEPARTMENT OF TRANSPORTATION

Federal Highway Administration

[Docket No. FHWA-2024-0069]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by December 20, 2024.

ADDRESSES: You may submit comments identified by DOT Docket ID Number 0069 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Bronwen Keiner, (202) -493-0280 or, Edward Starks (202)-366-5407, Office of Planning, Environment, and Realty, Federal Highway Administration, Department of Transportation, 1200 New Jersey Ave., SE, Washington, DC 20590. Office hours are from 7 a.m. to 5 p.m., Monday through Friday, except Federal holidays.

SUPPLEMENTARY INFORMATION:

Title: National Scenic Byway Program (NSBP).

Background: The Federal Highway Administration (FHWA) administers the NSBP. It was established by the Intermodal Surface Transportation Efficiency Act of 1991 in Section 162 of Title 23, United States Code (U.S.C.), and reauthorized and expanded significantly in 1998 under the Transportation Equity Act for the 21st Century and again under the Safe, Accountable, Flexible, Efficient Transportation Equity Act: A Legacy for Users in 2005. The NSBP is a grass-roots collaborative effort established to help recognize, preserve, and enhance selected roads throughout the United States. Before 2019, Congress last authorized discretionary NSBP funds in 2012 under the Surface Transportation Extension Act of 2012. Between 1992 and 2012, FHWA awarded over $505 million in NSBP grants. In 2022, FHWA awarded approximately $21.8 million in grants to 33 projects.

Respondents: The Notice of Funding Opportunity (NOFO), announcing up to $26.95 million of Fiscal Year (FY) 2023 and 2024 funding for the National Scenic Byways Program (NSBP) discretionary grants is now available for State DOTs and Federally Recognized Indian Tribes on grants.gov. FHWA is expecting roughly 200 applicants to apply for NSBP grant funding.

Frequency: NOFOs and grant solicitations will be published annually by FHWA but, are subject to the availability of funds in appropriations or, any legislation signed into law authorizing funds.

Estimated Average Burden per Response: 3 hours per respondent per applicant.

Estimated Total Annual Burden Hours: It is expected that the respondents will complete approximately 200 applications for an estimated total of 600 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: October 16, 2024.
Jazmyne Lewis,
Information Collection Officer.

[FR Doc. 2024-24252 Filed 10-18-24; 8:45 am]

BILLING CODE 4910-22-P